DEPARTMENT OF TRANSPORTATION

Federal Aviation Administration

14 CFR Part 71

[Docket No. FAA-2003-15979; Airspace Docket No. 03-AEA-10]

Establishment of Class E Airspace; Lawrenceville, VA

Correction

In rule document 04-2192 appearing on page 5014 in the issue of February 3, 2004 make the following correction:

§71.1 [Corrected]

In §71.1, in the second column, under the heading “AEA VA E5, Lawrenceville, VA [NEW]” the third line, should read “(Lat. 36°46′22″ N., long. 77°47′39″ W.)”.

[FR Doc. C4-2192 Filed 3-9-04; 8:45 am]

BILLING CODE 1505-01-D

DEPARTMENT OF TRANSPORTATION

Federal Aviation Administration

14 CFR Part 71

[Docket No. FAA-2003-16282; Airspace Docket No. 03-AEA-06]

Amendment of Class E Airspace; Philadelphia, PA

Correction

In rule document 04-2193 beginning on page 5014 in the issue of February 3, 2004, make the following correction:

§71.1 [Corrected]

On page 5015, in §71.1, in the second column, in the first full paragraph, in the 11th line, “713°” should read “173°”.

[FR Doc. C4-2193 Filed 3-9-04; 8:45 am]

BILLING CODE 1505-01-D